Title 3—

The President

Proclamation 9808 of October 19, 2018

National Character Counts Week, 2018

By the President of the United States of America

A Proclamation

America is improved every day by men and women of great character and integrity who understand that a responsible citizenry is needed to ensure the independence and prosperity of our Nation. The Founders cherished opportunities to grow, including those that require one to experience, learn from, and overcome hardship. In difficult times, the American spirit is tested and defined by the character of its citizens and leaders. We have withstood this test time and time again. During National Character Counts Week, we recognize that our Nation's continued success depends on the American people's courageous resolve to remain united through times of both triumph and tragedy. We also pledge to foster good character in our communities and encourage children to form constructive habits.

Character is nurtured in our families and communities. Parents and guardians have the unique responsibility to teach young people valuable traits, such as perseverance, courage, respect, and hard work. Teachers as well as civic and church leaders also play an integral role in helping our children adopt habits of good behavior. Good examples set by mentors empower youth to make smart choices that ultimately define them as individuals and us as a Nation. Every American should strive to live by example and never stop improving their character.

Strong families, church communities, and civic organizations have a significant effect on the positive development of our youth. By empowering these strong networks, my Administration is encouraging them to help our youth to do their very best, learn from mistakes, and become leaders. First Lady Melania Trump's BE BEST initiative is improving the lives of young people by championing evidence-based programs that help our communities focus on the emotional, social, and physical well-being of our children. As social media and technology provide more opportunities for children to communicate with each other, their ability to influence others and be a force for good also expands.

This week, especially, we refocus our efforts to be good examples—to our Nation's youth and each other—and to promote acts of service and leadership. We also express our gratitude to parents, guardians, teachers, civic and church leaders, and mentors for their vital work in raising children of strong character and integrity.

NOW, THEREFORE, I, DONALD J. TRUMP, President of the United States of America, by virtue of the authority vested in me by the Constitution and the laws of the United States, do hereby proclaim October 21 through October 27, 2018, as National Character Counts Week. I call upon public officials, educators, parents, students, and all Americans to observe this week with appropriate ceremonies, activities, and programs.

IN WITNESS WHEREOF, I have hereunto set my hand this nineteenth day of October, in the year of our Lord two thousand eighteen, and of the Independence of the United States of America the two hundred and forty-third.

[FR Doc. 2018-23415

Filed 10-23-18; 11:15 am]

Billing code 3295-F9-P